DEPARTMENT OF ENERGY

Federal Energy Regulatory Commission

Notice of Settlement Agreement and Soliciting Comments

March 22, 2005.

Take notice that the following settlement agreement has been filed with the Commission and is available for public inspection.

a. Type of Application: Settlement Agreement.

b. Project Nos.: 2071-013; 2111-018; and 935-053.

c. Date Filed: March 15, 2005.

d. Applicant: PacifiCorp.

e. Name of Projects: Yale Hydroelectric Project (2071); Swift No. 1 Hydroelectric Project (2111); and Merwin Hydroelectric Project (935).

f. Location: On the North Fork Lewis River, in Cowlitz, Clark, and Skamania County Washington. The Yale and Merwin Projects occupy 84 and 142.15 acres, respectively, of Federal land administered by the Bureau of Land Management. The Swift No. 1 Project occupies 63.25 acres of Federal land administered by the Bureau of Land Management and 229.00 acres of Federal lands administered by the U.S. Forest Service.

g. Filed Pursuant to: Federal Power Act, 16 U.S.C. 791(a)-825(r) and Rule 602 of the Commission's Rules of Practice and Procedure, 18 CFR 385.602.

h. Applicant Contact: Frank C. Shrier, Lead Project Manager, Hydro Licensing, PacifiCorp, 825 NE. Multnomah Street, Suite 1500, Portland, Oregon 97232; Telephone (503) 813-6622.

i. FERC Contact: Jon Cofrancesco at (202) 502-8951; or e-mail at jon.cofrancesco@ferc.gov.

j. Deadline for filing comments: 20 days from the filing date. Reply comments due 30 days from the filing date.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. PacifiCorp and American Rivers have entered into an agreement for the purpose of, under certain circumstances, further enhancing reservoir survival of salmonids in addition to the measures in the comprehensive settlement agreement previously filed for the licensing proceedings for these projects and the Swift No. 2 Project (P-2213-011), in December 2004. The agreement concerns the evaluation of the causes of reservoir mortality for salmonids and the funding of appropriate improvement measures to address reservoir mortality. The parties request the Commission accept the settlement agreement in its license orders without material modification.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E5-1422 Filed 3-30-05; 8:45 am]

BILLING CODE 6717-01-P